DEPARTMENT OF THE TREASURY

Internal Revenue Service

26 CFR Part 1

[TD 9087]

RIN 1545ÿ7E-BA07

Exclusions From Gross Income of Foreign Corporations

Correction

In rule document 03-21354 beginning on page 51394 in the issue of Tuesday, August 26, 2003, make the following corrections:

§ 1.883-1 [Corrected]

1. On page 51406, in § 1.883, in the first column, in paragraph (h)(4)(v), in the seventh line, “as an entirely” should read “as entirely”.

§ 1.883-4 [Corrected]

2. On page 51411, in § 1.883-4, in the second column, in paragraph (c)(2)(iii), in Example 3, in the first and second lines,

“Stock held through tiered partnerships”

should read

“Stock held through tiered partnerships”.

3. On page 51413, in the same section, in the first column, in paragraph (d)(3)(iii)(B), in the last line, “(C)(2)” should read “(C)(2)”.

[FR Doc. C3-21354 Filed 2-19-04; 8:45 am]

BILLING CODE 1505-01-D

DEPARTMENT OF THE TREASURY

Internal Revenue Service

Proposed Collection; Comment Request for Revenue Procedure 98-25

Correction

In notice document 04-3121 beginning on page 7069 in the issue of Thursday, February 12, 2004, make the following correction:

On page 7070, in the first column, under SUPPLEMENTARY INFORMATION, the second line should read “OMB Number: 1545-1595.”

[FR Doc. C4-3121 Filed 2-19-04; 8:45 am]

BILLING CODE 1505-01-D